DEPARTMENT OF DEFENSE

Office of the Secretary

Defense Science Board

AGENCY: Department of Defense.

ACTION: Notice of advisory committee meeting date change.

SUMMARY: On Monday, March 16, 2009 (74 FR 11090-11091) the Department of Defense announced closed meetings of the Defense Science Board (DSB) Spring quarterly. These meetings have been rescheduled from May 13-14, 2009, to June 3-4, 2009; at the Pentagon.

FOR FURTHER INFORMATION CONTACT: Ms. Debra Rose, Executive Officer, Defense Science Board, 3140 Defense Pentagon, Room 3B888A, Washington, DC 20301-3140, via e-mail at debra.rose@osd.mil, or via phone at (703) 571-0084.

Dated: May 5, 2009.
Patricia L. Toppings,
OSD Federal Register Liaison Officer, Department of Defense.

[FR Doc. E9-10706 Filed 5-7-09; 8:45 am]

BILLING CODE 5001-06-P